DEPARTMENT OF ENERGY

Federal Energy Regulatory Commission

[Docket No. CP02-374-000]

Hackberry LNG Terminal, L.L.C.; Notice of Intent To Prepare an Environmental Impact Statement for the Proposed Hackberry LNG Terminal Project, Request for Comments on Environmental Issues, and Notice of Public Scoping Meeting and Site Visit

July 16, 2002.

The staff of the Federal Energy Regulatory Commission (FERC or Commission) will prepare an environmental impact statement (EIS) that will discuss the environmental impacts of Hackberry LNG Terminal L.L.C.'s (Hackberry) proposed Hackberry LNG Terminal Project in Louisiana.¹ These proposed facilities would consist of liquefied natural gas (LNG) import terminal and storage facilities in Cameron Parish and 35.4 miles of 36-inch-diameter pipeline in Cameron, Calcasieu, and Beauregard Parishes, Louisiana. This EIS will be used by the Commission in its decision-making process to determine whether the project is in the public convenience and necessity.

¹ Hackberry's application was filed with the Commission under Sections 3(a) and 7(c) of the Natural Gas Act and Parts 157 and 284 of the Commission's regulations.

This notice is being sent to residences within 0.5 mile of Hackberry's proposed LNG facilities and to landowners along the proposed pipeline route. If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Hackberry provided to landowners. This fact sheet addresses a number of typically asked questions, including the use of eminent domain and how to participate in the Commission's proceedings. It is available for viewing on the FERC Internet website (http://www.ferc.gov).

Summary of the Proposed Project

Hackberry proposes to build a new LNG import, storage, and vaporization terminal approximately 2.3 miles north of Hackberry, Louisiana; and a natural gas pipeline to transport approximately 1.5 billion cubic feet per day of imported natural gas to the United States market. The natural gas would primarily supply new power generation markets. Hackberry seeks authorization to construct and operate the following new facilities at its proposed site:

• LNG ship docking and unloading facilities with two berths, each equipped with mooring and breasting dolphins, three liquid unloading arms, and one vapor return arm;

• three double-walled LNG storage tanks each with a usable volume of 1,006,000 barrels (3.5 billion cubic feet of gas equivalent);

• nine 250 million standard cubic feet per day (MMscf/d) in-tank pumps;

• ten 188 MMscf/d second-stage pumps;

• twelve 150 MMscf/d submerged combustion vaporizers;

• a boil-off gas compressor and condensing system;

• an LNG circulation system to maintain the facilities at the appropriate temperature when LNG ships are not being unloaded;

• a natural gas liquids recovery unit;

• utilities, buildings, and service facilities; and

• 35.4 miles of 36-inch-diameter natural gas pipeline extending from the LNG import terminal in Cameron Parish north through Calcasieu Parish to a connection with the existing Transcontinental Gas Pipe Line compressor station site in Beauregard Parish.

As part of the proposed project, Hackberry plans to remove the existing liquefied petroleum gas facilities and associated dock at the proposed site. The general location of the project facilities is shown in appendix 1.²

² The appendices referenced in this notice are not being printed in the Federal Register. Copies are available on the Commission's website (http://www.ferc.gov) at the “RIMS” link or from the Commission's Public Reference and Files Maintenance Branch, 888 First Street, NE., Washington, DC 20426, or call (202) 208-1371. For instructions on connecting to RIMS refer to the last page of this notice. Copies of the appendices were sent to all those receiving this notice in the mail.

Hackberry is requesting approval to begin construction of the LNG facilities in October 2003 and the pipeline in April 2006. The approximate duration of construction of the LNG facilities would be 3 years, while pipeline construction would take 6 months. Hackberry proposes to place the project in service by November 2006.

Land Requirements for Construction

Construction of the LNG terminal would require about 153 acres for the docking and LNG terminal facilities. Construction of the proposed pipeline facilities would disturb about 446 acres of land including the construction right-of-way, temporary extra workspaces, and contractor/pipe yards. Additional temporary work areas would include the use of 36.1 miles of primarily existing access roads along the proposed pipeline route. Approximately 6.1 miles of these access roads would require some improvements, resulting in the disturbance of 36.7 acres. The nominal construction right-of-way for the pipeline would be 100 feet wide. Additional right-of-way width and temporary extra workspace would be required at road and waterbody crossings and areas requiring topsoil segregation or special construction techniques.

Hackberry would maintain a 50-foot-wide permanent right-of-way for operation of the pipeline. Total land requirements would be approximately 199 acres for the new permanent right-of-way and 101 acres for the LNG facilities. Aboveground facilities associated with the pipeline, including mainline block valves, pig launchers and receivers, would be located within the new permanent right-of-way.³

³ A pig is an internal tool used to clean, dry, or internally inspect a pipeline for potential leaks.

The EIS Process

The National Environmental Policy Act (NEPA) requires the Commission to take into account the environmental impacts that could result from an action whenever it considers the issuance of a Certificate of Public Convenience and Necessity. NEPA also requires us to discover and address concerns the public may have about proposals.⁴ This process is referred to as “scoping”. The main goal of the scoping process is to focus the analysis in the EIS on the important environmental issues and reasonable alternatives. By this Notice of Intent, we are requesting agency and public comments on the scope of the issues to be analyzed and presented in the EIS. All comments received are considered during the preparation of the EIS. State and local government representatives are encouraged to notify their constituents of this proposed action and encourage them to comment on their areas of concern.

⁴ “We”, “us”, and “our” refer to the environmental staff of the Office of Energy Projects (OEP).

Our independent analysis of the issues will be in the Draft EIS. The Draft EIS will be mailed to Federal, state, and local agencies, public interest groups, interested individuals, affected landowners, newspapers, libraries, and the Commission's official service list for this proceeding. We will consider all comments on the Draft EIS and revise the document, as necessary, before issuing a Final EIS. The Final EIS will include our response to all comments received. To ensure your comments are considered, please carefully follow the instructions in the public participation section beginning on page 6.

Currently Identified Environmental Issues

The EIS will discuss impacts that could occur as a result of the construction and operation of the proposed project. We have already identified a number of environmental issues and alternatives that we think deserve attention based on a preliminary review of the proposed facilities, and the environmental information provided by Hackberry. This preliminary list of issues and alternatives may be changed based on your comments and our additional analysis.

• Geology and Soils:

—Assessment of potential geological hazards, including subsidence.

—Assessment of potentially contaminated dredge material.

—Impact on mineral and petroleum resources.

—Erosion and sedimentation control.

—Right-of-way restoration.

• Water Resources:

—Impact on groundwater and surface water supplies.

—Assessment of dredge and fill of coastal wetlands associated with construction of the proposed LNG terminal.

—Assessment of alternatives to avoid or minimize wetland impacts.

—Permanent impact on forested wetlands associated with construction and maintenance of the pipeline.

—Impact on wetland hydrology.

—Effect of pipeline crossings on perennial and intermittent streams, canals, and ditches, including possible increased turbidity from construction.

—Assessment of hydrostatic test water sources and discharge locations.

• Fish, Wildlife, and Vegetation:

—Effect on Essential Fish Habitat.

—Effect on economically important marine fisheries.

—Effect on wildlife resources and their habitat.

—Effect on migratory birds.

—Assessment of wildlife-related construction time window restrictions.

—Control of noxious weeds within the right-of-way.

—Assessment of measures to successfully revegetate the right-of-way.

—Clearing and permanent loss of forestland.

• Endangered and Threatened Species:

—Potential effect on federally listed species.

• Cultural Resources:

—Assessment of survey methodologies.

—Effect on historic and prehistoric sites.

—Native American and tribal concerns.

• Paleontological resources:

—Effect on paleontological resources.

• Land Use, Recreation and Special Interest Areas, and Visual Resources:

—Permanent land use alteration associated with site development.

—Impacts on forest land associated with pipeline construction, including forested wetlands.

—Impact on residences near the pipeline construction work area.

—Evaluation of the project's consistency with coastal zone management area guidelines.

—Visual impacts associated with the new LNG terminal and storage tanks.

• Socioeconomics:

—Effects on transportation and traffic within the project area, including the increase of shipping traffic within the Calcasieu Ship Channel by approximately 210 LNG tankers per year.

—Effects of construction workforce demands on public services and temporary housing.

• Air Quality and Noise:

—Effects on local air quality and noise environment from construction and operation of the proposed facilities.

• Reliability and Safety:

—Assessment of hazards associated with shipping and storage of LNG.

—Assessment of hazards associated with natural gas pipelines.

• Alternatives:

—Assessment of the use of existing natural gas systems to reduce or avoid environmental impacts.

—Evaluation of alternative sites for the LNG import and storage facilities.

—Evaluation of pipeline route alternatives.

—Identification of measures to lessen or avoid impacts on the various resource and special interest areas.

• Cumulative Impact:

—Assessment of the effect of the proposed project when combined with other past, present, or future actions in the same region.

Public Participation

You can make a difference by providing us with your specific comments or concerns about the project. By becoming a commentor, your concerns will be addressed in the EIS and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary Federal Energy Regulatory Commission, 888 First St., NE., Room 1A, Washington, DC 20426.

• Label one copy of the comments for the attention of Gas Branch 1, PJ-11.1.

• Reference Docket No. CP02-374-000.

• Mail your comments so that they will be received in Washington, DC on or before August 16, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

Public Scoping Meetings and Site Visit

In addition to or in lieu of sending written comments, we invite you to attend the public scoping meeting we will conduct in the project area. The location and time for this meeting is listed below: August 6, 2002, 7:00 pm. Holiday Inn Express, 102 Mallard Street, Sulphur, Louisiana 70665, Telephone: 337-625-2500.

The public scoping meeting is designed to provide state and local agencies, interested groups, affected landowners, and the general public with more detailed information and another opportunity to offer your comments on the proposed project. Interested groups and individuals are encouraged to attend the meeting and to present comments on the environmental issues they believe should be addressed in the EIS. A transcript of the meeting will be made so that your comments will be accurately recorded.

On the day of the meeting, we will also be conducting a limited site visit to the LNG terminal site and pipeline route. Anyone interested in participating in the site visit should meet at the proposed LNG terminal site, located approximately 15 miles south of Sulphur, Louisiana along Louisiana State Route 27, at 8:30 AM on August 6, 2002. The meeting place is a gravel drive on the left side of Louisiana State Route 27, two miles south of the Intracoastal Waterway bridge. Participants must provide their own transportation.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR385.214) (see appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EIS.

Additional Information

Additional information about the proposed project is available from the Commission's Office of External Affairs at 1-866-208-FERC or on the FERC website (http://www.ferc.gov) using the “RIMS” link to information in this docket number. Click on the “RIMS” link, select “Docket #” from the RIMS Menu, and follow the instructions. For assistance with access to RIMS, the RIMS helpline can be reached at (202) 208-2222. Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

Linwood A. Watson, Jr.,
Deputy Secretary.

[FR Doc. 02-18380 Filed 7-19-02; 8:45 am]

BILLING CODE 6717-01-P